DEPARTMENT OF HEALTH AND HUMAN SERVICES

Centers for Disease Control and Prevention

Disease, Disability and Injury Prevention and Control Special Emphasis Panel: Grant Program for Strategies for Improving Health Risk Communication Related to Military Deployments Among Military Personnel, Veterans, Their Family Members, and Their Health Care Providers, PA# 01021; Correction

SUMMARY: This notice was published in the Federal Register on April 30, 2001, Volume 66, Number 83, Pages 21388-21389. The meeting times and dates have been revised.

DATES: The meeting times and dates have been revised as follows:

9 a.m.-9:30 a.m., June 4, 2001 (Open)

9:30 a.m.-Noon, June 4, 2001 (Closed)

FOR FURTHER INFORMATION CONTACT: Drue Barrett, Ph.D., Chief, Veterans' Health Activity Working Group, National Center for Environmental Health, CDC, 1600 Clifton Rd, NE, MS E-19, Atlanta, Ga. 30333. Telephone 404/639-4862, e-mail dhb1@cdc.gov.

The Director, Management Analysis and Services Office, has been delegated the authority to sign Federal Register Notices pertaining to announcements of meetings and other committee management activities, for the both the Centers for Disease Control and Prevention and the Agency for Toxic Substances and Disease Registry.

Dated: May 16, 2001.
Carolyn J. Russell,
Director, Management Analysis and Services Office, Centers for Disease Control and Prevention.

[FR Doc. 01-12818 Filed 5-21-01; 8:45 am]

BILLING CODE 4163-18-P